DEPARTMENT OF COMMERCE

Membership of the Departmental Performance Review Board

AGENCY: Department of Commerce.

ACTION: Notice of Membership on the Departmental Performance Review Board.

SUMMARY: In accordance with 5 U.S.C., 4314(c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2015.

DATES: Effective Date: The effective date of service of appointees to the Departmental Performance Review Board is based upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names and position titles of the members of the DPRB are set forth below by organization:

Department of Commerce

Departmental Performance Review Board Membership

2013-2015

Office of the Secretary

Theodore C.Z. Johnston, Director, Office of White House Liaison

Office of General Counsel

Barbara S. Fredericks, Assistant General Counsel for Administration

Elise B. Packard, Chief, General Law Division

Barry K. Robinson, Chief Counsel for Economic Affairs

Office of the Chief Financial Officer and Assistant Secretary for Administration

Gordon T. Alston, Director, Financial Reporting and Internal Controls

Tammy L. Journet, Deputy for Procurement Management, Policy and Performance Excellence

Michael E. Phelps, Director, Office of Budget

Frederick E. Stephens, Deputy Assistant Secretary for Administration

Bureau of Industry and Security

Gay G. Shrum, Director of Administration

Bureau of the Census

Douglas R. Clift, Senior Advisor for Project Management

Michael L. Palensky, Chief, Acquisition Division

Nancy Potok, Deputy Director

Economics and Statistics Administration

Kenneth A. Arnold, Associate Under Secretary for Management

Joanne Buenzli Crane, Associate Director for Administration and Chief Financial Officer

Economics and Development Administration

Thomas Guevara, Deputy Assistant Secretary for Regional Affairs

International Trade Administration

Kenneth J.E. Hyatt, Deputy Under Secretary for International Trade

Maureen R. Smith, Deputy Assistant Secretary for Manufacturing and Services

Minority Business Development Agency

Alejandra Y. Castillo, Deputy Director

Edith J. McCloud, Associate Director for Management

National Oceanic and Atmospheric Administration

Holly A. Bamford, Assistant Administrator for Ocean Services and Coastal Zone Management

Edward C. Horton, Chief Administrative Officer

Joseph F. Klimavicz, Chief Information Officer and Director of High Performance Computing and Communications

Mark S, Paese, Deputy Assistant Administrator, NESDIS

Lois J. Schiffer, General Counsel, NOAA

Holly A. Bamford, Assistant Administrator for Ocean Services and Coastal Zone Management

Russell F. Smith, III, Deputy Assistant Secretary for International Fisheries

National Technical Information Service

Bruce E. Borzino, Director, National Technical Information Service

National Telecommunications and Information Administration

Leonard M. Bechtel, Chief Financial Officer and Director for Administration

National Institute of Standards and Technology

Richard F. Kayser, Jr., Chief Safety Officer

Mary H. Saunders, Associate Director for Management Resources

Dated: November 8, 2013.
Denise A. Yaag,
Director, Office of Executive Resources.

[FR Doc. 2013-27522 Filed 11-18-13; 8:45 am]

BILLING CODE 3510-BS-M